DEPARTMENT OF ENERGY

Federal Energy Regulatory Commission

[Project No. 2883-009]

Aquenergy Systems, LLC; Notice of Comment Period Extension

On November 1, 2018, the Commission issued a notice setting January 7, 2019, as the end of the formal period to file scoping comments on the license application for the Fries Hydroelectric Project No. 2883. Due to the funding lapse at certain federal agencies between December 22, 2018 and January 25, 2019, the Commission is extending the comment period until February 25, 2019.

Dated: February 8, 2019.
Kimberly D. Bose,
Secretary.

[FR Doc. 2019-02340 Filed 2-13-19; 8:45 am]

BILLING CODE 6717-01-P